SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before July 12, 2004.

ADDRESSES: Send all comments regarding whether this information collection is necessary for the proper performance of the function of the agency, whether the burden estimates are accurate, and if there are ways to minimize the estimated burden and enhance the quality of the collection, to Bruce Hodgman, Deputy District Director, Arizona District Office, Small Business Administration, 2828 North Central Avenue, Suite 800, Arizona, AZ 85004.

FOR FURTHER INFORMATION CONTACT: Bruce Hodgman, Deputy District Director, 604-745-7200 or Curtis B. Rich, Management Analyst, 202-205-7030.

SUPPLEMENTARY INFORMATION: Title: “SBA Interactive Loan Qualifier''.

Description of Respondents: General Public that is interested in determining if they meet the basic loan requirements for a SBA guaranteed loan.

Form No.: N/A.

Annual Responses: 100.

Annual Burden: 30.

Jacqueline White,
Chief, Administrative Information Branch.

[FR Doc. 04-10762 Filed 5-11-04; 8:45 am]

BILLING CODE 8025-01-P